DEPARTMENT OF DEFENSE

GENERAL SERVICES ADMINISTRATION

NATIONAL AERONAUTICS AND SPACE ADMINISTRATION

48 CFR Parts 28 and 52

[FAR Case 2006-013; Docket 2007-0001; Sequence 3]

RIN 9000-AK71

Federal Acquisition Regulation; FAR Case 2006-013, List of Approved Attorneys, Abstracters, and Title Companies

AGENCIES: Department of Defense (DoD), General Services Administration (GSA), and National Aeronautics and Space Administration (NASA).

ACTION: Proposed rule with request for comments.

SUMMARY: The Civilian Agency Acquisition Council and the Defense Acquisition Regulations Council (Councils) are proposing to amend the Federal Acquisition Regulation (FAR) to update the procedures for the acceptance of a bond with a security interest in real property.

DATES: Interested parties should submit written comments to the FAR Secretariat on or before May 15, 2007 to be considered in the formulation of a final rule.

ADDRESSES: Submit comments identified by FAR case 2006-013 by any of the following methods:

• Federal eRulemaking Portal: http://www.regulations.gov. Search for any document by first selecting the proper document types and selecting “Federal Acquisition Regulation” as the agency of choice. At the “Keyword” prompt, type in the FAR case number (for example, FAR Case 2006-001) and click on the “Submit” button. Please include any personal and/or business information inside the document.You may also search for any document by clicking on the “Advanced search/document search”tab at the top of the screen, selecting from the agency field “Federal Acquisition Regulation”, and typing the FAR case number in the keyword field. Select the “Submit” button.

• Fax: 202-501-4067.

• Mail: General Services Administration, Regulatory Secretariat (VIR), 1800 F Street, NW, Room 4035, ATTN: Laurieann Duarte, Washington, DC 20405.

Instructions: Please submit comments only and cite FAR case 2006-013 in all correspondence related to this case. All comments received will be posted without change to http://www.regulations.gov, including any personal and/or business confidential information provided.

FOR FURTHER INFORMATION CONTACT: Jerry Olson, Procurement Analyst, at (202) 501-3221 for clarification of content. For information pertaining to status or publication schedules, contact the FAR Secretariat at (202) 501-4755. Please cite FAR case 2006-013.

SUPPLEMENTARY INFORMATION:

A. Background

FAR Subpart 28.2, Sureties and other Security for Bonds, includes policies which require agencies to obtain adequate security for bonds when bonds are used with a contract for supplies or services (including construction). A corporate or individual surety is an acceptable form of security for a bond. Whenever a surety secures a bond with interest in real property, FAR 28.203-3 requires that the surety provide evidence of title in the form of a certificate of title prepared by a title insurance company that has been approved by the Department of Justice (DOJ).DOJ maintained a list of the approved title companies that could prepare the certificate of title on the “List of Approved Attorneys, Abstracters, and Title Companies.” DOJ has revised its procedures and no longer maintains a list of approved title insurance companies. Instead, DOJ has developed a guide for the preparation of evidence of title, Title Standards 2001 (Standards). The Standards address the various types of title evidence that may be acceptable considering local practice, reliability, security, economy and other factors. The Standards also address the qualification requirements for preparers of title evidence.

The FAR rule proposes to revise the types of acceptable title evidence and the qualification requirements for preparers of title evidence consistent with the Standards. The types of acceptable title evidence and the required qualifications are located in Section 2 of the Standards.

In addition, FAR 28.203-3(d) requires sureties to execute a lien if a surety pledges real estate on Standard Form 28, Affidavit of Individual Surety. The lien must be recorded in the local recorder’s office. When multiple parties jointly own the real estate, the lien must be signed by each owner of the property to be valid. The FAR currently does not clearly specify that all owners of the property must sign the lien. The proposed rule clarifies that all property owners are required to sign the lien when a surety pledges real estate as collateral.

This is not a significant regulatory action and, therefore, was not subject to review under Section 6(b) of Executive Order 12866, Regulatory Planning and Review, dated September 30, 1993. This rule is not a major rule under 5 U.S.C. 804.

B. Regulatory Flexibility Act

The Councils do not expect this proposed rule to have a significant economic impact on a substantial number of small entities within the meaning of the Regulatory Flexibility Act, 5 U.S.C. 601, et seq., because the incidence of use of bonds secured by interest in real property is very low. An Initial Regulatory Flexibility Analysis has, therefore, not been performed. We invite comments from small businesses and other interested parties. The Councils will consider comments from small entities concerning the affected FAR Parts 28 and 52 in accordance with 5 U.S.C. 610. Interested parties must submit such comments separately and should cite 5 U.S.C. 601, et seq. (FAR case 2006-013), in correspondence.

C. Paperwork Reduction Act

The Paperwork Reduction Act does not apply because the proposed changes to the FAR do not impose information collection requirements that require the approval of the Office of Management and Budget under 44 U.S.C. 3501, et seq.

List of Subjects in 48 CFR Parts 28 and 52

Government procurement.

Dated: March 7, 2007
Ralph De Stefano
Director, Contract Policy Division.

Therefore, DoD, GSA, and NASA propose amending 48 CFR parts 28 and 52 as set forth below:

1. The authority citation for 48 CFR parts 28 and 52 continues to read as follows:

Authority: 40 U.S.C. 121(c); 10 U.S.C. chapter 137; and 42 U.S.C. 2473(c).

PART 28—BONDS AND INSURANCE

2. Amend section 28.203-3 by revising paragraphs (a)(1) and paragraph (d) introductory text to read as follows:

28.203-3 Acceptance of real property.

(a) * * *

(1) Evidence of title that is consistent with the requirements of Section 2 of the United States Department of Justice Title Standard 2001 at http://www.fws.gov/realty/doj_2001.pdf. Depending on the value of the property, contracting officers should consider requesting assistance from the agency-designated legal counsel to determine if the evidence of title is adequate.

* * * * *

(d) The following format, or any document substantially the same, shall be signed by all owners of the property and used by the surety and recorded in the local recorder‘s office when a surety pledges real estate on Standard Form 28, Affidavit of Individual Surety.

* * * * *

PART 52—SOLICITATION PROVISIONS AND CONTRACT CLAUSES

3. Amend section 52.228-11 by revising the date of the clause and the first sentence in paragraph (b)(2)(i) of the clause to read as follows:

52.228-11 Pledges of Assets.

* * * * *

PLEDGES OF ASSETS (DATE)

* * * * *

(b) * * *

(2) * * *

(i) Evidence of title that is consistent with the requirements of Section 2 of the United States Department of Justice Title Standard 2001 at http://www.fws.gov/realty/doj_2001.pdf * * * .

* * * * *

[FR Doc. 07-1182 Filed 3-15-07; 8:45 am]

BILLING CODE 6820-EP-S